DEPARTMENT OF HOMELAND SECURITY

Coast Guard

[CGD05-05-039]

Virginia Area Maritime Security Committee

AGENCY: Coast Guard, DHS.

ACTION: Solicitation for membership.

SUMMARY: This notice requests individuals interested in serving on the Virginia Area Maritime Security (VA AMS) Committee to submit their applications for membership to the Captain of the Port (COTP) Hampton Roads.

DATES: Requests for membership should reach the U.S. Coast Guard COTP Hampton Roads by June 17, 2005.

ADDRESSES: Applications for membership should be submitted to the Captain of the Port at the following address: United States Coast Guard, Marine Safety Office Hampton Roads, Norfolk Federal Building, 200 Granby Street, Suite 700, Norfolk, Virginia 23510-1888.

FOR FURTHER INFORMATION CONTACT: For questions about submitting an application or about the VA AMS Committee in general, contact the VA AMS Committee Executive Secretary, Mr. Roger Tomlinson at (757) 668-5590.

SUPPLEMENTARY INFORMATION:

Authority

Section 102 of the Maritime Transportation Security Act (MTSA) of 2002 (Pub. L. 107-295) added section 70112 to title 46 of the U.S. Code, and authorized the Secretary of the Department in which the Coast Guard is operating to establish Area Maritime Security Advisory Committees for any port area of the United States. (See 33 U.S.C. 1226; 46 U.S.C. 70112(a)(2); 33 CFR 1.05-1, 6.01; Department of Homeland Security Delegation No. 0170.1). The MTSA includes a provision exempting these AMS Committees from the Federal Advisory Committee Act (FACA), Public Law 92-436, 86 Stat. 470 (5 U.S.C. App. 2).

The VA AMS Committee will assist the Captain of the Port in the development, review, and update of the AMS Plan for their area of responsibility. Such matters may include, but are not limited to: Identifying critical port infrastructure and operations; identifying risks (threats, vulnerabilities, and consequences); determining mitigation strategies and implementation methods; developing and describing the process to continually evaluate overall port security by considering consequences and vulnerabilities, how they may change over time, and what additional mitigation strategies can be applied; and providing advice to, and assisting the Captain of the Port in developing the Area Maritime Security Plan.

AMS Committee Membership

At least seven members of the VA AMS Committee need to have at least 5 years experience related to maritime or port security operations. The Virginia AMS Committee is made up of an Executive Committee which currently has 17 members selected by the Federal Maritime Security Coordinator and also four chartered subcommittees with various members. The four subcommittees are Law Enforcement, Assessment, Response Organization and Port Readiness.

The Law Enforcement Subcommittee deals with law enforcement, jurisdictional training and operational issues. The Assessment Subcommittee assists the FMSC by conducting assessments or overseeing assessments contracted by the Federal government. The Response Organization Subcommittee evaluates local, State and Federal response plans for areas of overlap, jurisdictional issues and/or inconsistencies. The Port Readiness Subcommittee deals with issues relative to military out load activities in the port. Other subcommittees and working groups are established on an as needed basis. Future subcommittees may include a Recreational Boating Safety/Security Subcommittee.

This advisory solicits members from the maritime community that would like to serve on one of the four designated subcommittees. We are seeking to add additional members to the subcommittees with this solicitation. Applicants may be required to pass a background check prior to appointment to a committee. Members' terms of office will be for 5 years; however, a member may be eligible to serve an additional term of office. Members will not receive any salary or other compensation for their service on an AMS Committee. In support of the policy of the U.S. Coast Guard on gender and ethnic diversity, we encourage qualified women and members of minority groups to apply.

Request for Applications

Those seeking membership are not required to submit formal applications to the local COTP. However, because we do have an obligation to ensure that a specific number of members have the prerequisite maritime security experience, we encourage the submission of resumes highlighting experience in the maritime and security industries.

Dated: May 3, 2005.
Robert R. O'Brien Jr.,
U.S. Coast Guard, Captain of the Port Hampton Roads.

[FR Doc. 05-9829 Filed 5-17-05; 8:45 am]

BILLING CODE 4910-15-P